DEPARTMENT OF THE TREASURY

Bureau of Engraving and Printing

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning the Claim for Amounts Due in the Case of a Deceased Owner of Mutilated Currency.

DATES: Written comments should be received on or before October 28, 2002 to be assured of consideration.

ADDRESSES: Direct all written comments to Department of the Treasury, Bureau of Engraving and Printing, Pamela V. Grayson, 14th & C Streets, SW., Washington, DC 20228, (202) 874-2212.

FOR FURTHER INFORMATION CONTACT: Requests for additional information or copies of the form(s) and instructions should be directed to Department of the Treasury, Bureau of Engraving and Printing, Lorraine Robinson, 14th & C Streets, SW., Washington, DC 20228, (202) 874-2532.

SUPPLEMENTARY INFORMATION: Title: Claim for Amounts Due in the Case of a Deceased Owner of Mutilated Currency.

OMB Number: 1520-0002.

Form Number: BEP 5287.

Abstract: This a request for an extension.

Current Action: The Office of Currency Standards, Mutilated Currency Division, Bureau of Engraving and Printing use BEP 5287 to determine ownership in cases of a deceased owner of damaged or mutilated currency.

Type of Review: Extension.

Affected Public: Individuals or households.

Estimated Number of Respondents: The estimated number of respondents for the next three years is 180, with a total estimated number of burden hours of 165.

Estimated Total Annual Burden Hours: The estimated number of annual burden hours is 165.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: August 28, 2002.
Pamela V. Grayson,
Management Analyst, Office of Budget and Strategic Planning, Bureau of Engraving and Printing.

[FR Doc. 02-22847 Filed 9-6-02; 8:45 am]

BILLING CODE 4840-01-P